DEPARTMENT OF HOMELAND SECURITY

[Docket No.: DHS-2018-0063]

First Responders Community of Practice (FRCoP)

AGENCY: Science and Technology Directorate, Department of Homeland Security.

ACTION: 30-Day Notice of Information Collection; request for comment. (Re-instatement of a Currently Approved Collection, 1640-0016).

SUMMARY: The Department of Homeland Security (DHS), Science and Technology (S&T) is proposing to reinstate OMB 1640-0016, an information collection, by inviting the public to comment on the collection: First Responders Community of Practice (FRCoP) User Registration Page (DHS Form 10059 (9/09)). The FRCoP web based tool collects profile information from first responders and select authorized non-first responder users to facilitate networking and formation of online communities. All users are required to authenticate prior to entering the site. In addition, the tool provides members the capability to create wikis, discussion threads, blogs, documents, etc., allowing them to enter and upload content in accordance with the site's Rules of Behavior. Members are able to participate in threaded discussions and comment on other members' content. The FRCoP program is responsible for providing a collaborative environment for the first responder community to share information, best practices, and lessons learned. The Homeland Security Act of 2002 established this requirement. Interested persons may receive a copy of the collection by contacting the DHS S&T Paperwork Reduction Act (PRA) Coordinator.

DATES: Comments are encouraged and accepted until December 17, 2018.

ADDRESSES: You may submit comments, identified by docket number DHS-2018-0063, at:

• Federal eRulemaking Portal: http://www.regulations.gov. Please follow the instructions for submitting comments.

• Mail and hand delivery or commercial delivery: Science and Technology Directorate, ATTN: Chief Information Office—Mary Cantey, 245 Murray Drive, Mail Stop 0202, Washington, DC 20528.

Instructions: All submissions received must include the agency name and docket number DHS-2018-0063. All comments received will be posted without change to http://www.regulations.gov, including any personal information provided. Please note that comments submitted by fax or email and those submitted after the comment period will not be accepted.

Docket: For access to the docket to read background documents or comments received, go to http://www.regulations.gov.

FOR FURTHER INFORMATION CONTACT: DHS/S&T/FRG System Owner: Marc Caplan, Marc.Caplan@HQ.DHS.GOV, (202) 254-6134 (Not a toll free number).

SUPPLEMENTARY INFORMATION: DHS, in accordance with the PRA (6 U.S.C. 193), provides the general public and Federal agencies with an opportunity to comment on proposed, revised, and continuing collection of information. This helps the Department assess the impact of its information collection requirements and minimize the public's reporting burden. It also helps the public understand the Department's information collection requirements and provides the requested data in the desired format. DHS is soliciting comments on the proposed information collection request (ICR) that is described below. The Department of Homeland Security is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: First Responders Community of Practice User Registration Page (DHS Form 10059 (9/09)).

Prior OMB Control Number: 1640-0016.

Prior Federal Register Document: 2018-0035, August 2, 2018.

Type of Review: An extension of an information collection.

Respondents/Affected Public: Federal, State, Local, and Tribal Governments.

Frequency of Collection: Once per respondent.

Average Burden per Response: 30 minutes.

Total Estimated Number of Annual Responses: 2,000.

Total Estimated Number of Annual Burden Hours: 1,000.

Gregg Piermarini,
Deputy Chief Information Officer, Science and Technology Directorate.

[FR Doc. 2018-24907 Filed 11-14-18; 8:45 am]

BILLING CODE 9110-9F-P